SURFACE TRANSPORTATION BOARD

[Docket No. AB 575 (Sub-No. 2X)]

Montana Rail Link, Inc.—Discontinuance of Service Exemption—in Yellowstone, Stillwater, Sweet Grass, Park, Gallatin, Broadwater, Jefferson, Lewis and Clark, Powell, Deer Lodge, Granite, Missoula, Lake, Mineral, and Sanders Counties, Mont.; Bonner and Kootenai Counties, Idaho; and Spokane County, Wash.

On November 18, 2022, Montana Rail Link, Inc. (MRL), a Class II rail carrier, filed a petition under 49 U.S.C. 10502 for exemption from the prior approval requirements of 49 U.S.C. 10903 to discontinue service over approximately 656.47 miles of non-contiguous rail line, which are leased from BNSF Railway Company (BNSF), and to discontinue MRL's bridge-only trackage rights over approximately 96.04 miles of rail line owned by BNSF (collectively, the Lines). The 656.47 miles of rail line over which MRL seeks discontinuance authority are comprised of the following segments (collectively, Leased Premises): a segment from milepost 209.91 at Huntley, Mont., to milepost 17.8 at Spurling, Mont. (1st Subdivision); a segment from milepost 17.8 at Spurling to milepost 238.4 at Helena, Mont. (2nd Subdivision); a segment from milepost 0.0 at Helena to milepost 119.31 at Missoula, Mont. (3rd Subdivision); a segment from milepost 119.31 at Missoula to milepost 118.7 at Sandpoint Junction, Idaho (4th Subdivision); a segment from milepost 0.0 at De Smet, Mont., to milepost 64.27 at Paradise, Mont. (10th Subdivision); a segment from milepost 15.15 at Laurel, Mont., to milepost 514.47 south of Laurel; a segment from milepost 0.0 at Moss Main, Mont., to milepost 0.50 at a point north of Moss Main. The 96.04 miles of rail line over which MRL seeks to discontinue bridge-only trackage rights include the following segments (collectively, Trackage Rights Lines): a segment from milepost 2.79 at Sand Point, Idaho, to milepost 68.17 at Spokane, Wash.; a segment from milepost 68.17 to milepost 69.0 near Spokane, Wash.; a segment from milepost 0.74 to milepost 1.0 near Moss Main; and a segment from milepost 51.07 near Garrison, Mont., to milepost 21.5 south of Warm Springs, Mont.¹ The Lines are located in Yellowstone, Stillwater, Sweet Grass, Park, Gallatin, Broadwater, Jefferson, Lewis and Clark, Powell, Deer Lodge, Granite, Missoula, Lake, Mineral, and Sanders Counties, Mont.; Bonner and Kootenai Counties, Idaho; and Spokane County, Wash. The Leased Premises traverse United States Postal Service (USPS) Zip Codes: 59037, 59101, 59102, 59105, 59106, 59044, 59063, 59019, 59069, 59033, 59011, 59047, 59082, 59715, 59718, 59714, 59741, 59752, 59643, 59644, 59647, 59635, 59601, 59602, 59728, 59713, 59731, 59733, 59832, 59936, 59825, 59851, 59802, 59808, 59834, 59846, 59820, 59821, 59863, 59831, 59872, 59866, 59859, 59873, 59874, 59853, 59844, 83811, 83836, 83840, 83852 and 83864. The Trackage Rights Lines traverse the following USPS Zip Codes: 59044, 59711, 59731, 59722, 59756, 83813, 83864, 83860, 83801, 83858, 83854, 99025, 99027, 99212, 99216, 99206, 99202, and 99201.

¹ MRL notes that in 2006, the Board authorized MRL to terminate its operations over the segment from milepost 51.07 near Garrison to milepost 21.5 south of Warm Springs. See Mont. Rail Link, Inc.—Trackage Rights Exemption—BNSF Ry., FD 34911 (Sub-No. 1) (STB served Nov. 28, 2006). MRL states that it does not believe that any additional Board authority is required to discontinue trackage rights over the segment, but MRL is requesting termination authority if the Board disagrees with MRL's interpretation.

The Lines include the following stations on the 1st Subdivision: Jones Jct. at milepost 209.9, Huntley at milepost 213.1, East Billings at milepost 223.4, Billings at milepost 225.8 and milepost 0.0, Shilo at milepost 11.5, Moss Main at milepost 12.1, Laurel Yard at milepost 13.7, and West Laurel at milepost 15.5. The Lines include the following stations on the 2nd Subdivision: West Laurel at milepost 15.5, Spurling at milepost 17.7, Brodsky at milepost 19.8, Park City at milepost 24.3, Rapids at milepost 32.3, Columbus at milepost 40.3, Craver at milepost 47.6, Reed Point at milepost 56.9, Quebec at milepost 62.0, Greycliff at milepost 70.2, Big Timber at milepost 80.9, Carney at milepost 90.9, Elton at milepost 102.3, Livingston East Long Lead at milepost 111.9, Livingston at milepost 115.4, Livingston West Long Lead at milepost 116.0, Muir at milepost 127.1, West End at milepost 128.6, Bozeman at milepost 140.4, Belgrade at milepost 149.9, Manhattan at milepost 159.3, Logan at milepost 164.6, Missouri at milepost 172.4, Clarkston at milepost 178.8, Lombard at milepost 184.9, Toston at milepost 194.2, Townsend at milepost 205.3, Winston at milepost 218.3, Louisville at milepost 227.4, Helena East at milepost 235.1, Carter St. at milepost 236.9, and Helena at milepost 238.43 and milepost 0.0. The Lines include the following stations on the 3rd Subdivision: Helena at milepost 0.0, Helena Jct. at milepost 3.0, Tobin at milepost 5.1, Austin at milepost 12.9, Skyline at milepost 18.6, Blossburg at milepost 20.5, Elliston at milepost 28.9, CP Avon at milepost 34.9, Bradley at milepost 39.6, Garrison at milepost 50.9, Phosphate at milepost 54.8, Jens at milepost 61.4, Drummond at milepost 70.7, Bearmouth at milepost 80.1, Nimrod at milepost 88.7, Clinton at milepost 102.6, Bonner at milepost 113.2, and Missoula at milepost 119.3. The Lines include the following stations on the 4th Subdivision: Missoula at milepost 119.3, De Smet at milepost 125.9, Frenchtown at milepost 136.6, Lothrop at milepost 150.8, Rivulet at milepost 167.6, Westfall at milepost 176.2, Superior at milepost 183.6, CP St. Regis at milepost 196.2, Toole at milepost 201.9, Paradise at milepost 219.2 and milepost 0.0, Plains at milepost 6.0, Eddy at MP 20.6, Thompson Falls at milepost 31.5, Childs at milepost 46.4, Tuscor at milepost 61.6, Noxon at milepost 72.5, Heron at milepost 80.1, Colby at milepost 91.1, Hope at milepost 103.5, Kootenai at milepost 116.9, and Sandpoint Jct. at milepost 118.7. The Lines include the following stations on the 10th Subdivision: De Smet at milepost 0.0, Evaro at milepost 10.6, Arlee at milepost 21.1, Ravalli at milepost 30.8, Dixon at milepost 37.8, Perma at milepost 51.5, and Paradise at milepost 64.2.

According to MRL, it and BNSF, the owner of the Leased Premises and the Trackage Rights Lines, have mutually agreed that MRL will terminate its lease and trackage rights operations and BNSF will resume providing service to shippers on the Leased Premises. BNSF currently provides services on the Trackage Rights Lines and will continue to do so after the discontinuance. MRL states that the proposed discontinuance will therefore leave no customer on the Leased Premises or the Trackage Rights Lines without access to railroad common carrier service, as any such customers would have service via BNSF.

MRL states that the Lines may contain federally granted rights-of-way. MRL also states that it will make any documentation that it may have concerning federally-granted rights-of-way available promptly to those requesting it.

As a condition to this exemption, any employee adversely affected by the discontinuance of service shall be protected under Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by March 8, 2023.

Because this is a discontinuance proceeding and not an abandonment, interim trail use/rail banking and public use conditions are not appropriate. Because there will be environmental review during any subsequent abandonment, this discontinuance does not require an environmental review. See 49 CFR 1105.6(c)(5), 1105.8(b).

Any offer of financial assistance (OFA) for subsidy under 49 CFR 1152.27(b)(2) will be due no later than 120 days after the filing of the petition for exemption, or 10 days after service of a decision granting the petition for exemption, whichever occurs sooner.² Persons interested in submitting an OFA must first file a formal expression of intent to file an offer by December 19, 2022, indicating the intent to file an OFA for subsidy and demonstrating that they are preliminarily financially responsible. See 49 CFR 1152.27(c)(1)(i).

² The filing fee for OFAs can be found at 49 CFR 1002.2(f)(25).

All filings in response to this notice must refer to Docket No. AB 575 (Sub-No. 2X) and must be filed with the Surface Transportation Board either via e-filing on the Board's website or in writing addressed to 395 E Street SW, Washington, DC 20423-0001. In addition, a copy of each pleading must be served on MRL's representative, Rose-Michele Nardi, Baker & Miller PLLC, 2401 Pennsylvania Ave. NW, Suite 300, Washington, DC 20037. Replies to the petition are due on or before December 28, 2022.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis at (202) 245-0294. Assistance for the hearing impaired is available through the Federal Relay Service at (800) 877-8339.

Board decisions and notices are available at www.stb.gov.

Decided: December 5, 2022.
By the Board, Mai T. Dinh, Director, Office of Proceedings.
Stefan Rice,
Clearance Clerk.

[FR Doc. 2022-26706 Filed 12-7-22; 8:45 am]

BILLING CODE 4915-01-P